SECURITIES AND EXCHANGE COMMISSION

[Release No. 58723]

Order Extending Emergency Order Pursuant to Section 12(K)(2) of the Securities Exchange Act of 1934 Taking Temporary Action To Respond to Market Developments

October 2, 2008.

Pursuant to Section 12(k)(2) of the Securities Exchange Act of 1934 (“Exchange Act”),¹ on September 18, 2008, the Securities and Exchange Commission (“Commission”) issued an Emergency Order (the “Order”) that prohibited persons from selling short the securities of financial institutions. The Order became effective at 12:01 a.m. E.D.T. on September 19, 2008 and is currently set to terminate at 11:59 p.m. E.D.T. on October 2, 2008.²

¹ 15 U.S.C. 78l(k)(2).

² See Securities Exchange Act Release No. 58592 (Sept. 18, 2008); see also Securities Exchange Act Release No. 58611 (Sept. 21, 2008).

Pursuant to our authority under Section 12(k)(2)(C) of the Exchange Act, we are extending the Order. Section 12(k)(2)(C) authorizes the Commission to extend an emergency order issued pursuant to Section 12(k)(2)(A) of the Exchange Act for a total effective period of up to 30 calendar days, if the Commission finds that the emergency still exists and determines that an extension is necessary in the public interest and for the protection of investors to maintain fair and orderly securities markets.

We have carefully reevaluated the current state of the markets and we remain concerned about the potential for sudden and excessive fluctuations of securities prices generally and disruption in the functioning of the securities markets that could threaten fair and orderly markets. We intend the prohibition to restore investor and market confidence by preventing short selling from being used to drive down the prices of securities in financial institutions even where there is no fundamental basis for a price decline other than general market conditions. Thus, we have determined in this environment that the standards under Section 12(k)(2) for extending the Order have been met. Accordingly, we have determined that extending the Order is in the public interest and necessary to maintain fair and orderly securities markets and for the protection of investors.

It is therefore ordered that, pursuant to Section 12(k)(2)(C) of the Exchange Act, the Order is extended such that it will terminate at the earlier of (i) three business days from the President's signing of the Emergency Economic Stabilization Act of 2008 (H.R. 1424), or (ii) 11:59 p.m. E.D.T. on Friday, October 17, 2008.

By the Commission.
Florence E. Harmon,
Acting Secretary.

[FR Doc. E8-23862 Filed 10-7-08; 8:45 am]

BILLING CODE 8011-01-P